DEPARTMENT OF HEALTH AND HUMAN SERVICES

Administration for Children and Families

Submission for OMB Review; Comment Request

Title: Head Start Impact Study Participants Beyond 8th Grade.

OMB No.: 0970-0229.

Description: The Administration for Children and Families (ACF) within the Department of Health and Human Services (HHS) will collect follow-up information from children and families in the Head Start Impact Study. In anticipation of conducting a future follow-up for the study, ACF will collect information necessary to identify respondents' current location and follow-up with respondents in the future.

The Head Start Impact Study is a longitudinal study involving 4,667 first-time enrolled three- and four-year-old preschool children across 84 nationally representative grantee/delegate agencies (in communities where there were more eligible children and families than can be served by the program). Participants were randomly assigned to either a Head Start group (that could enroll in Head Start services) or a control group (that could not enroll in Head services) or a control group (that could not enroll in Head Start services but could enroll in other available services selected by their parents). Data collection for the study began in fall of 2002 and has continued through late spring 2008 to include the participants' 3rd grade year. Location and contact information for participants has continued every spring beginning in 2009 and continued through spring 2014.

ACF will continue to collect a small amount of information for the sample through the spring of the participant's 12th grade year. To maintain adequate sample size, telephone interviews (with in-person follow-up as necessary) will be conducted in order to update the children's status and their location and contact information. Additionally, the parent interview will include a small set of items on children's special education needs, grade retention, school safety, school engagement, and parental monitoring to provide information on factors during adolescence that may influence long-term impacts of Head Start examined in a potential follow-up study. This information will be collected from parents or guardians in the spring of 2015 and 2016. Updates will take about 20 minutes to complete.

Respondents: The original sample of 4,667 treatment and control group members in the Head Start Impact Study, less 432 families that have given a “hard” refusal to participate in the study (e.g., refused to participate if they were contacted again). The number of respondents for this requested data collection is 4,235.

Annual Burden Estimates
Instrument | Total number of respondents | Annual number of respondents | Number of responses per respondent | Average burden hours per response | Annual burden hours
Parent Interview | 8470 | 4235 | 1 | 1/3 | 1412

Estimated Total Annual Burden Hours: 1412.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration, for Children and Families.

Naomi Goldstein,
Director, Office of Planning, Research and Evaluation; Administration for Children and Families.

[FR Doc. 2014-28843 Filed 12-9-14; 8:45 am]

BILLING CODE 4184-22-P